DEPARTMENT OF COMMERCE

National Oceanic and Atmospheric Administration

[RTID 0648-XC062]

Endangered Species; File No. 19496

AGENCY: National Marine Fisheries Service (NMFS), National Oceanic and Atmospheric Administration (NOAA), Commerce.

ACTION: Notice; receipt of application for a permit modification.

SUMMARY: Notice is hereby given that Mariana Fuentes, Ph.D., Florida State University, 3263 Foley Drive, Tallahassee, FL 32309, has applied in due form for a modification to take green (Chelonia mydas), hawksbill (Eretmochelys imbricata), Kemp's ridley (Lepidochelys kempii), and loggerhead (Caretta caretta) sea turtles for purposes of scientific research.

DATES: Written, telefaxed, or email comments must be received on or before June 27, 2022.

ADDRESSES: The application and related documents are available for review by selecting “Records Open for Public Comment” from the “Features” box on the Applications and Permits for Protected Species (APPS) home page, https://apps.nmfs.noaa.gov, and then selecting File No. 19496 Mod 10 from the list of available applications. These documents are also available upon written request via email to NMFS.Pr1Comments@noaa.gov.

Written comments on this application should be submitted via email to NMFS.Pr1Comments@noaa.gov. Please include File No. 19496 in the subject line of the email comment.

Those individuals requesting a public hearing should submit a written request via email to NMFS.Pr1Comments@noaa.gov. The request should set forth the specific reasons why a hearing on this application would be appropriate.

FOR FURTHER INFORMATION CONTACT: Erin Markin or Amy Hapeman, (301) 427-8401.

SUPPLEMENTARY INFORMATION: The subject modification is requested under the authority of the Endangered Species Act of 1973, as amended (ESA; 16 U.S.C. 1531 et seq.) and the regulations governing the taking, importing, and exporting of endangered and threatened species (50 CFR parts 222-226).

Mariana Fuentes, Ph.D., Florida State University, 3263 Foley Drive, Tallahassee, FL 32309, proposes to modify Permit No. 19496-04. The permit, originally issued on June 16, 2016 (81 FR 43589, July 5, 2016), and modified on June 5, 2018 (83 FR 34116, July 19, 2018), authorizes researchers to identify important foraging and developmental habitats of sea turtles in Florida. Researchers may capture sea turtles by hand or dip, strike, or tangle nets, tag, biologically sample, photograph, video record, measure, and weigh, prior to release. The permit holder requests authorization to (1) expand the study location in the Florida Big Bend region from Hernando Beach to the southern end of Marco Island, (2) add animal-borne cameras as an instrument for studying Kemp's ridley and green sea turtles, (3) increase the subset of green (from 10 to 50) and Kemp's ridley (from 10 to 30) sea turtles annually that may receive a satellite tag or animal-borne camera, and (4) increase the number of loggerhead (from 10 to 50) sea turtles that may receive a satellite tag or animal-borne camera. The total number of green and Kemp's ridley sea turtles that may be captured, handled, and released annually would not change, 245 and 195, respectively. The total number of loggerhead sea turtles that may be captured, handled, and released annually would change from 55 to 95. The permit is valid through September 30, 2025.

Dated: May 20, 2022.
Amy Sloan,
Acting Chief, Permits and Conservation Division, Office of Protected Resources, National Marine Fisheries Service.

[FR Doc. 2022-11293 Filed 5-25-22; 8:45 am]

BILLING CODE P